DEPARTMENT OF VETERANS AFFAIRS

Capital Asset Realignment for Enhanced Services (CARES) Commission; Notice of Meeting

The Department of Veterans Affairs (VA) gives notice under Public Law 92-463 (Federal Advisory Committee Act) that the Capital Asset Realignment for Enhanced Services (CARES) Commission will meet on April 2-4, 2003, at the Hyatt Regency Crystal City, 2799 Jefferson Davis Highway, Arlington, VA 22202. The sessions on April 2-4 will begin at 8:30 a.m. each day and end by 4 p.m. on April 2, by 5 p.m. on April 3, and by 12 noon on April 4. The meetings are open to the public.

The purpose of the Commission is to conduct an external assessment of VA's capital asset needs and to assure that stakeholder and beneficiary concerns are fully addressed. The Commission will consider recommendations prepared by VA's Under Secretary for Health, veterans service organizations, individual veterans, Congress, medical school affiliates, VA employees, local government entities, community groups and others. Following its assessment, the Commission will make specific recommendations to the Secretary of Veterans Affairs regarding the realignment and allocation of capital assets necessary to meet the demands for veterans health care services over the next 20 years.

The April meeting is the third meeting of the Commission. On the morning of April 2, there will be a detailed briefing and discussion of how the Market Planning Template was applied in the solution planning process. On the afternoon of April 2, a status report on the reviews of the CARES Model will be presented. Also, on the afternoon of April 2 and continued on April 3, there will be briefings on the issues facing nursing and medical school affiliations with VA facilities, such as the impact of changes in resident work hour requirements, and the interplay with VA Community Based Outpatient Clinics. On April 3, there will also be a briefing and discussion of the CARES Planning Initiatives and adherence to Planning Guidance. On April 4, the Commission will receive briefings from stakeholders and other governmental offices.

No time will be allocated at these meetings for receiving oral presentations from the public. However, interested persons may either attend or file statements with the Commission. Written statements may be filed either before the meeting or within 10 days after the meeting and addressed to: Department of Veterans Affairs, CARES Commission (OOCARES), 810 Vermont Avenue, NW., Washington, DC 20420. Any member of the public wishing additional information should contact Mr. Richard E. Larson, Executive Director, CARES Commission, at (202) 501-2000.

Dated: March 18, 2003.
By Direction of the Secretary.
E. Philip Riggin,
Committee Management Officer.

[FR Doc. 03-7005 Filed 3-24-03; 8:45 am]

BILLING CODE 8320-01-M